DEPARTMENT OF THE INTERIOR

Bureau of Ocean Energy Management, Regulation and Enforcement

[Docket No. BOEM-2011-0049]

Commercial Leasing for Wind Power on the Outer Continental Shelf (OCS) Offshore Rhode Island and Massachusetts—Call for Information and Nominations (Call)

AGENCY: Bureau of Ocean Energy Management, Regulation and Enforcement (BOEMRE), Interior.

ACTION: Call for Information and Nominations for Commercial Leasing for Wind Power on the OCS Offshore Rhode Island and Massachusetts.

SUMMARY: BOEMRE invites the submission of nominations for one or more commercial leases that would allow a lessee to propose the construction of a wind energy project(s) on the OCS offshore Rhode Island and Massachusetts and to develop a project if further environmental review is successful. Although this announcement is not itself a leasing announcement, the area described herein may be subject to future leasing, and BOEMRE will use the responses to this Call for Information and Nominations (Call) to gauge specific interest in acquiring commercial wind leases in some or all of the area described, and to determine whether competitive interest exists in any particular area, as required by 43 U.S.C. 1337(p)(3). Parties wishing to submit a nomination in response to this Call should submit detailed and specific information in response to the requirements described in the section entitled, “Required Nomination Information.”

This announcement also requests that interested and affected parties comment and provide information about site conditions, resources and multiple uses within the area identified in this notice that would be relevant to BOEMRE's review of the nominations submitted and any subsequent decision to offer all or part of the area for commercial wind leasing. The information that BOEMRE is requesting is described below in the section entitled, “Requested Information from Interested or Affected Parties.”

This notice is published pursuant to subsection 8(p)(3) of the OCS Lands Act, 43 U.S.C. 1337(p)(3), as well as the implementing regulations at 30 CFR Part 285.

The area under consideration for this Call (Call Area) is located on the OCS off the coast of Rhode Island and Massachusetts within the Area of Mutual Interest (AMI), as described by a Memorandum of Understanding (MOU) between the Governors of Rhode Island and Massachusetts.

The Call Area is divided into two areas which are separated by an existing Traffic Separation Scheme (TSS). The first section of the Call Area is northwest of the TSS beginning approximately 9 nautical miles (nmi) southeast of Point Judith, Rhode Island, and extending approximately 2 nmi seaward (Northwest section). This section of the Call Area is approximately 1.25 square nmi and contains 1 partial OCS lease block. The second section of the Call Area is southeast of the TSS beginning approximately 10 nmi south of the Newport, Rhode Island coast, and extending approximately 20 nmi seaward (Southeast section). This section of the Call Area is approximately 246 square nmi and contains 31 whole OCS lease blocks as well as 10 partial OCS lease blocks.

The Call Area was identified by BOEMRE in consultation with the State of Rhode Island and the Commonwealth of Massachusetts, and further delineated in consultation with the BOEMRE/Rhode Island and BOEMRE/Massachusetts Renewable Energy Task Forces. A detailed description of the area and how it was identified is found later in this notice.

DATES: BOEMRE must receive your nomination describing your interest in this potential commercial leasing area postmarked by October 3, 2011 for your nomination to be considered. BOEMRE requests comments or other submissions of information by this same date. BOEMRE will consider only the nominations we receive by that time.

Submission Procedures: If you are submitting a nomination for a lease in response to this Call, please submit your nomination by mail to the following address: Bureau of Ocean Energy Management, Regulation and Enforcement, Office of Offshore Alternative Energy Programs, 381 Elden Street, Mail Stop 4090, Herndon, Virginia 20170. In addition to a paper copy of the nomination, please include an electronic copy of the nomination on a compact disc (CD). Nominations must be postmarked by October 3, 2011 to be considered by BOEMRE. BOEMRE will list the parties that submitted nominations and the location of the proposed lease areas (i.e., OCS blocks nominated) on the BOEMRE Web site after the 45-day comment period has closed.

Comments and other submissions of information may be submitted by either of the following two methods:

1. Federal eRulemaking Portal: http://www.regulations.gov. In the entry entitled, “Enter Keyword or ID,” enter BOEM-2011-0049, and then click “search”. Follow the instructions to submit public comments and view supporting and related materials available for this notice. BOEMRE will post all comments which are not marked “Contains Confidential Information.”

2. By U.S. Postal Service or other delivery service, sending your comments and information to the following address: Bureau of Ocean Energy Management, Regulation and Enforcement, Office of Offshore Alternative Energy Programs, 381 Elden Street, Mail Stop 4090, Herndon, Virginia 20170. All responses will be reported on http://www.regulations.gov.

If you wish to protect the confidentiality of your nomination or comments, clearly mark the relevant sections and request that BOEMRE treat them as confidential. Please label privileged or confidential information with “Contains Confidential Information,” and consider submitting such information as a separate attachment. Treatment of confidential information is addressed in the section of this Call entitled, “Privileged or Confidential Information.” Information that is not labeled as privileged or confidential will be regarded by BOEMRE as suitable for public release.

FOR FURTHER INFORMATION CONTACT: Jessica Bradley, Project Coordinator, BOEMRE, Office of Offshore Alternative Energy Programs, 381 Elden Street, Mail Stop 4090, Herndon, Virginia 20170, (703) 787-1320.

SUPPLEMENTARY INFORMATION:

Purpose of the Call for Information and Nominations

The OCS Lands Act requires BOEMRE to award leases competitively, unless BOEMRE makes a determination that there is no competitive interest (43 U.S.C. 1337(p)(3)). The issuance of this notice is not intended to indicate that BOEMRE has determined that competitive interest exists in the area identified. Rather, this notice is the first step in the renewable energy planning and leasing process in the AMI offshore Rhode Island and Massachusetts. The responses to this notice will assist BOEMRE in determining if there is any competitive interest in the area identified. This notice also requests information from interested and affected parties on issues relevant to BOEMRE's review of nominations for potential leasing in the area identified.

BOEMRE is issuing a Call instead of an Request for Interest (RFI) to facilitate and expedite the leasing process in keeping with the goals and objectives of the Secretary of the Interior's “Smart from the Start” initiative. If an RFI were issued and the responses to it indicated competitive interest, the applicable regulations would require BOEMRE to issue a Call, which BOEMRE believes would be duplicative of the RFI process and, therefore, unnecessary and inefficient. Issuance of this Call, without a RFI, is designed to enable BOEMRE to analyze information needed to support appropriate commercial leasing, while ensuring ample opportunity for input from interested and affected parties.

The responses to this Call could lead to the initiation of a competitive leasing process in some areas of the AMI (i.e., where competition exists for certain tracts), and a noncompetitive process in other areas of the AMI (i.e., where no competitive interest exists in certain tracts). The leasing process is described more completely under the “Determination of Competitive Interest” and “Noncompetitive Leasing Process,” sections of this notice. If BOEMRE determines that there is no competitive interest in some or all of this area offshore Rhode Island and Massachusetts, BOEMRE may proceed with the noncompetitive lease process pursuant to 30 CFR 285.232 for any area(s) where no competitive interest exists. If BOEMRE determines that there is competitive interest in some or all of this area offshore Rhode Island and Massachusetts, BOEMRE may proceed with Area Identification, as set forth in 30 CFR 285.211(b), and the competitive leasing process set forth under 30 CFR 285.211 through 285.225. Whether the leasing process would be competitive or noncompetitive, it would (1) include additional opportunities for the public to provide input; (2) be reviewed thoroughly for potential environmental and multiple use impacts; and (3) be conducted in conformance with all applicable laws and regulations. The area that may be offered for lease, if any, has not yet been determined, and may be reduced in size from the area identified in this Call.

Background

Energy Policy Act of 2005 (EPAct)

The EPAct amended the OCS Lands Act by adding subsection 8(p)(1)(C), which authorizes the Secretary of the Interior to grant leases, easements, or rights-of-way (ROWs) on the OCS for activities that are not otherwise authorized by law and that produce or support production, transportation, or transmission of energy from sources other than oil or gas. The EPAct also required the issuance of regulations to carry out the new authority pertaining to renewable energy on the OCS. The Secretary delegated this authority to issue leases, easements, and ROWs, and to promulgate regulations, to the Director of BOEMRE. On April 29, 2009, BOEMRE published the Renewable Energy and Alternate Uses (REAU) rule, at 30 CFR Part 285, which can be found at: http://www.boemre.gov/offshore/RenewableEnergy/PDF/FinalRenewableEnergyRule.pdf.

Executive Order 13547: Stewardship of the Ocean, Our Coasts, and the Great Lakes

On July 19, 2010, the President signed Executive Order 13547 establishing a national ocean policy and the National Ocean Council (75 FR 43023).

The Order establishes a comprehensive, integrated national policy for the stewardship of the ocean, our coasts, and the Great Lakes. Where BOEMRE actions affect the ocean, the Order requires BOEMRE to take such action as necessary to implement this policy, the stewardship principles, and national priority objectives adopted by the Order, and guidance from the National Ocean Council.

BOEMRE appreciates the importance of coordinating its planning endeavors with other OCS users and regulators and intends to follow principles of coastal and marine spatial planning, and coordinate with the regional planning bodies as established by the National Ocean Council to inform its leasing processes. BOEMRE anticipates that continued coordination with the state Renewable Energy Task Forces will help inform comprehensive coastal and marine spatial planning efforts.

Department of the Interior “Smart From the Start” Atlantic Wind Initiative

Secretary Ken Salazar announced the “Smart from the Start” OCS renewable energy initiative on November 23, 2010. This initiative includes three key elements: (1) Streamlined processes for commercial wind lease issuance; (2) the identification of Wind Energy Areas (WEA) followed by concrete information gathering; and (3) processing OCS energy transmission line proposals on a parallel but separate track from generation projects.

A WEA is an OCS area identified as having high wind resource potential along with relatively low potential use conflict, making it suitable for the consideration of wind energy leasing. Some of the area delineated for this Call may be identified as a WEA during the Area Identification stage of the leasing and planning process.

BOEMRE/State Renewable Energy Task Forces

BOEMRE established the Rhode Island Task Force in November 2009, at the request of Governor Donald Carcieri, to facilitate coordination among affected Federal agencies and state, local, and tribal governments throughout the entire leasing process. The first meeting was held on November 17, 2009, to introduce the intergovernmental members, discuss the purpose of the task force, explain the BOEMRE renewable energy leasing and environmental review process, and discuss a draft charter. BOEMRE began working on a RFI with the BOEMRE/Rhode Island Renewable Energy Task Force, and originally intended to issue a RFI for an area offshore Rhode Island. Rhode Island and Massachusetts then developed a partnership that resulted in an MOU signed by the Governors of both States in July of 2010. This MOU created the AMI and set a framework for the two states to collaborate on issues concerning offshore wind development on the OCS. In October and November of 2010, two developers submitted separate unsolicited requests pursuant to 30 CFR 285.230 for commercial leases within the AMI that partially overlap geographically. BOEMRE convened joint meetings of the BOEMRE/Rhode Island and BOEMRE/Massachusetts Renewable Energy Task Forces to coordinate on offshore renewable energy leasing within this area. The BOEMRE/Rhode Island Renewable Energy Task Force meeting materials and information related to the joint Task Force efforts are available on the BOEMRE web site at: http://www.boemre.gov/offshore/RenewableEnergy/StateActivities-RhodeIsland.htm.

In light of these partially overlapping unsolicited requests, as well as the high level of interest that has been expressed for potential commercial wind leasing in other areas of the OCS (e.g. Maryland and New Jersey), we anticipate that there will be competitive interest within the Call Area. Issuance of this Call is designed to enable BOEMRE to proceed with the competitive process in an efficient manner while ensuring ample opportunity for input from interested and affected parties.

Environmental Review Process

BOEMRE intends to prepare an environmental assessment (EA), which will consider the environmental consequences associated with issuing commercial wind leases and approving site assessment activities on those leases within all or some of this Call area. BOEMRE is seeking public input in identifying the environmental issues and alternatives to be considered through the publication of a Notice of Intent (NOI) to prepare an EA, concurrently with this Call.

The EA will consider the environmental consequences associated with reasonably foreseeable leasing and site characterization scenarios within the Call Area (including geophysical, geotechnical, archaeological, and biological surveys), and reasonably foreseeable site assessment scenarios (including the installation and operation of meteorological towers and buoys) on the potential leaseholds. At a minimum, the alternatives that will be considered are: no action, (i.e. no issuance of leases or approval of site assessment activities); and the issuance of leases and approval of site assessment activities within the areas described in this Call. The NOI solicits input on the environmental effects associated with the activities described above. The EA will not, however, be used to support any future decision regarding the approval of the construction or operation of any wind energy facility on leases that may be issued within this Call Area. Instead, any proposed project will go through a thorough environmental review process at a future date.

Several consultations will be conducted concurrently with and integrated into the National Environmental Policy Act (NEPA) process. These consultations include, but are not limited to, those required by the Coastal Zone Management Act (CZMA), the Endangered Species Act (ESA), the Magnuson-Stevens Fishery Conservation and Management Act, the National Historic Preservation Act (NHPA), and Executive Order 13175—“Consultation and Coordination With Tribal Governments.” The results of these consultations will assist BOEMRE in deciding whether and where leases may be issued. These consultations would take place prior to the issuance of any leases. BOEMRE has initiated government-to-government tribal consultation pursuant to Executive Order 13175 with three federally recognized tribes that have expressed interest in wind energy development in the New England area. After evaluating the responses to the Call, but before publishing the Proposed Sale Notice (PSN) for a competitive lease sale or issuing a lease noncompetitively, BOEMRE will conduct consultations pursuant to Section 106 of the NHPA. When possible, BOEMRE will conduct consultations concurrently with the NEPA process (30 CFR 800.8(3)(c)).

Actions Taken by the States of Rhode Island and Massachusetts in Support of Offshore Renewable Energy Development

BOEMRE recognizes the importance of the steps that the State of Rhode Island and the Commonwealth of Massachusetts have taken to encourage environmentally sound offshore wind energy development. While a state may promote such development through initiatives such as the creation of screening tools that inform the BOEMRE planning process, BOEMRE retains the exclusive authority to issue leases, easements, and rights-of-way on the OCS for renewable energy purposes. Below is a summary of the initiatives and actions undertaken by the State of Rhode Island and the Commonwealth of Massachusetts that promote the development of wind energy on the OCS.

The State of Rhode Island has devised a process for identifying areas it believes are suitable for renewable energy development, by considering wind development's compatibility with existing uses and the character of the natural resources in those areas. This effort tiered off two previous initiatives: (1) The Rhode Island Winds Report of 2005, which made a preliminary assessment of the feasibility of wind energy projects offshore Rhode Island; and (2) the Baird's Sea Grant Science Symposium, Sound Connections: The Science of Rhode Island and Block Island Sounds, October 2008; findings of which can be found at http://seagrantadm.gso.uri.edu/Baird_08/default.htm. The Baird Symposium provided a forum for researchers, resource managers, and stakeholders to discuss the state of the science in various areas important to Rhode Island coastal communities, including ecosystems and fisheries.

The State of Rhode Island has completed and adopted a Marine Spatial Planning Plan called the Ocean Special Area Management Plan (SAMP) for the areas offshore Rhode Island that support siting activities for offshore renewable energy and reflects extensive stakeholder input. This document, adopted by the National Oceanic and Atmospheric Administration (NOAA) on July 22, 2011, will become the basis for the State of Rhode Island's Federal consistency process for the AMI and is recognized in the July 2010 MOU between Rhode Island and Massachusetts as the guiding document for the AMI area.

The State of Rhode Island continues to gather data for a number of areas on the OCS, including data on avian species, fish habitat, marine mammals, physical oceanographic measurements, acoustics, geophysical and other data. BOEMRE appreciates the importance of this information and will use the data and information gathered by the state in its evaluation of potential lease issuance in the AMI.

The July 2010 MOU between Rhode Island and Massachusetts recognizes the benefits of collaborating in the evaluation and potential development of the AMI. Rhode Island and Massachusetts officials held a series of public meetings in Massachusetts to discuss SAMP data and the process involved. Rhode Island and Massachusetts officials expect that similar stakeholder discussions will continue, such as through the convening of a Fisheries Advisory Board consisting of fishing representatives from both States. In the development of the Call Area, input from both the BOEMRE/Rhode Island and BOEMRE/Massachusetts Task Forces has provided a regional perspective on the physical, biological, and socioeconomic resources of the AMI.

BOEMRE's Planning and Leasing Process

BOEMRE has been involved in a planning process for the AMI area since the establishment of the BOEMRE/Rhode Island Renewable Energy Task Force in 2009. The planning process has involved coordination with the joint BOEMRE/Rhode Island and BOEMRE/Massachusetts Renewable Energy Task Forces on the development of this Call. In addition, at the request of the State of Rhode Island and the Commonwealth of Massachusetts, BOEMRE has participated in ten public information sessions with stakeholders from both states to provide information regarding BOEMRE's planning process. Additional information, including presentations and materials from the public information sessions and the joint Task Force meetings can be found at: http://www.boemre.gov/offshore/RenewableEnergy/StateActivities-RhodeIsland.htm.

Determination of Competitive Interest

The first step in the leasing process is to determine whether or not there is interest in acquiring a lease and whether there is competitive interest in acquiring a lease in any particular area. At the conclusion of the comment period for this Call, BOEMRE will review the nominations received, undertake a completeness review and qualifications review, and make a determination as to whether competitive interest exists in any specific location within the Call Area.

If two areas of interest fully or partially overlap, BOEMRE may proceed with the competitive leasing process as described below. For areas where BOEMRE determines that there is no competitive interest, BOEMRE may proceed with the noncompetitive leasing process also described below. While BOEMRE anticipates that this Call will result in multiple nominations for the area that indicate competitive interest exists, it is nonetheless possible that the responses to the Call could lead to following a competitive process, noncompetitive process, or both. BOEMRE may consult with the BOEMRE/Rhode Island and BOEMRE/Massachusetts Task Forces throughout these processes.

Situations may arise in which several parties nominate project areas that do not overlap. Under these circumstances, BOEMRE could choose to employ an allocation system of leases that involves the creation of competition across tracts. This system is referred to as intertract competition and would also be implemented under the competitive process outlined in the regulations. BOEMRE may consult with the BOEMRE/Rhode Island and BOEMRE/Massachusetts Task Forces in determining intertract competition.

Respondents to this Call and members of the public should be aware that no lease will be issued, either competitively or noncompetitively, until the necessary consultations and environmental analysis have been completed and the public has been given ample opportunity to comment. As a result, it is possible that certain areas nominated may not be leased, or that the areas nominated may be modified from their original, proposed form before being offered for lease.

Competitive Leasing Process

If, after receiving responses to this Call, BOEMRE proceeds with the competitive leasing process for certain areas, it would follow the steps required by 30 CFR 285.211 through 285.225:

(1) Area Identification: Based on the information submitted in response to this Call, BOEMRE would identify an area in which interest exists, and which will be subject to environmental analysis, in consultation with appropriate Federal agencies, states, local governments, tribes and other interested parties. The area identified will constitute a WEA under the “Smart from the Start” initiative, which will be the area analyzed in the EA. The NOI to prepare the EA is being published concurrently with this Call.

(2) Proposed Sale Notice: If BOEMRE decides to proceed with lease issuance in the area, then BOEMRE would publish the PSN in the Federal Register and send the PSN to any affected tribes, the State Historic Preservation Office, the Governor of any affected state, and the executive of any affected local government. The PSN would describe the areas to be offered for leasing and the proposed conditions of a lease sale, including the proposed auction format, lease form, and lease provisions/stipulations. Additionally, the PSN would describe the criteria and process for evaluating bids. The PSN would be issued after completion of any final NEPA documentation, preparation of the Consistency Determination as required by the CZMA and its implementing regulations, and preparation of various analyses of proposed lease sale economic terms and conditions. The comment period following issuance of a PSN would be 60 days.

(3) Final Sale Notice: If BOEMRE decides to proceed with lease issuance after considering comments on the PSN, it would then publish the Final Sale Notice (FSN) in the Federal Register at least 30 days before the date of the sale. BOEMRE may use one of the following four auction formats to select the winning bidder(s) as required by 30 CFR 285.220: Multiple-factor bidding; sealed bidding; ascending bidding; or two-stage bidding (a combination of ascending bidding and sealed bidding). BOEMRE would publish the criteria for winning bid determinations in the FSN.

(4) Bid Submission and Evaluation: Following publication of the FSN in the Federal Register, qualified bidders would be able to submit their bids to BOEMRE in accordance with procedures in the FSN. The bids, including the bid deposits if applicable, would be reviewed for technical and legal adequacy. BOEMRE would evaluate the bids to determine if the bidder has complied with all applicable regulations. BOEMRE reserves the right to reject any or all bids and the right to withdraw an offer to lease an area from the sale.

As stated above, BOEMRE may consider using the multiple-factor auction format in addition to the three other auction formats described at 30 CFR 285.220. If BOEMRE were to use a multiple-factor auction format, the evaluation of bids would be made by a panel composed of members selected by BOEMRE, and factors that BOEMRE may choose to include in the auction could be selected from a wide array of options. Factors that BOEMRE may consider for inclusion in this auction process are: Compatibility with existing state and local needs; or public benefits. These factors would be identified in the FSN.

If BOEMRE were to use a multiple-factor auction format, it is possible that a negotiation stage may be included in the bid assessment criteria, to be used if it becomes necessary to modify a proposed lease prior to acceptance. BOEMRE would coordinate with the state and other stakeholders, as appropriate, to establish procedures designed to assure the selection of the most worthy proposal that would provide a fair return to the United States pursuant to subsection 8(p)(2)(A) of the OCS Lands Act (43 U.S.C. 1337(p)(2)(A)).

(5) Issuance of a Lease: Following the selection of a winning bid(s) by BOEMRE, the submitter(s) would be notified of the decision and provided a set of official lease documents for execution. The successful bidder would be required to execute the lease, pay the remainder of the bonus bid, if applicable, and file the required financial assurance within 10 days of receiving the lease copies. Upon receipt of the required payments, financial assurance, and properly executed lease forms, BOEMRE would issue a lease to the successful bidder.

Noncompetitive Leasing Process

If, after evaluating the responses to this notice, BOEMRE determines that there is no competitive interest in a proposed lease area, it may proceed with the noncompetitive lease issuance process pursuant to 30 CFR 285.232, as amended by a rulemaking, which took effect on June 15, 2011 (76 FR 28178). Should BOEMRE decide to proceed with the noncompetitive leasing process, it would ask if the respondent wants to proceed with acquiring the lease, and if so, the respondent must submit an acquisition fee as specified by 30 CFR 285.502(a). After receiving the acquisition fee, BOEMRE would follow the process outlined in 30 CFR 285.231. After determining that no competitive interest exists, BOEMRE would publish a notice in the Federal Register announcing this determination. Within 60 days of the date of that notice, the respondent would be required to submit a Site Assessment Plan (SAP), as described in 30 CFR 285.231(d)(2)(i).

BOEMRE will comply with the requirements of NEPA, CZMA, ESA, NHPA, and other applicable Federal statutes before issuing a lease noncompetitively. BOEMRE would coordinate and consult, as appropriate, with relevant Federal agencies, affected tribes, affected state and local governments, and provide opportunity for public comment prior to issuing a noncompetitive lease and in formulating lease terms, conditions, and stipulations.

It is possible that responses to this notice may result in a determination that there is competitive interest in acquiring leases in some areas but not in others. BOEMRE will announce publicly its determinations before proceeding with any leasing process.

Description of the Area

The Call Area is located on the OCS off the coast of Rhode Island and Massachusetts. The Call Area is divided into two areas separated by an existing TSS. The first section of the Call Area is northwest of the TSS beginning approximately 9 nmi southeast of Point Judith, Rhode Island and extending approximately 2 nmi seaward (Northwest section). This section of the Call Area is approximately 1.25 square nmi and contains 1 partial OCS lease block. The second section of the Call Area is southeast of the TSS beginning approximately 10 nmi south of the Newport, Rhode Island coast and extending approximately 20 nmi seaward (Southeast section). This section of the Call area is approximately 246 square nmi and contains 31 whole OCS lease blocks as well as 10 partial OCS lease blocks.

The following partial OCS lease block is included within the Northwest section of the Call Area, in Providence NK19-07:

Block No. | Sub block
6764 | A,B,E

The following whole OCS lease blocks, are included within the Southeast section of the Call Area in Providence NK19-07: 6817, 6866, 6915, 6916, 6919, 6965, 6966, 6967, 6968, 6969, 6970, 6971, 7015, 7016, 7017, 7018, 7019, 7020, 7021, 7064, 7065, 7066, 7067, 7068, 7069, 7070, 7071, 7114, 7115, 7116, and 7117. The following partial OCS lease blocks, are included within the Southeast section of the Call Area in Providence NK19-07:

Block No. | Sub block
6766 | L,O,P
6815 | P
6816 | B,C,D,F,G,H,I,J,K,L,M,N,O,P
6865 | C,D,F,G,H,J,K,L,M,N,O,P
6867 | A,B,C,D,E,I,M
6914 | D,G,H,K,L,O,P
6917 | A,E,F,G,H,I,J,K,L,M,N,O,P
6918 | B,C,D,E,F,G,H,I,J,K,L,M,N,O,P
6964 | C,D,G,H,K,L,O,P
7014 | C,D,G,H,J,K,L,N,O,P

The boundary of the Call Area follows the points listed in the tables below for both the Northwest and Southeast sections of the Call Area in clockwise order. Point numbers 1 and 7 are the same in table 1 (Northwest section boundary) and point numbers 1 and 39 are the same in table 2 (Southeast section boundary). Coordinates are provided in X, Y (eastings, northings) UTM Zone 19N, NAD 83 and geographic (longitude, latitude), NAD83.

Rhode Island Call Area—Northwest Section Boundary (Table 1)
Point No. | X (Easting) | Y (Northing) | Longitude | Latitude
1 | 308000 | 4574400 | −71.293243 | 41.298222
2 | 310400 | 4574400 | −71.264599 | 41.298789
3 | 310400 | 4573200 | −71.264225 | 41.287989
4 | 309200 | 4573200 | −71.278545 | 41.287706
5 | 309200 | 4572000 | −71.278169 | 41.276905
6 | 308000 | 4572000 | −71.292486 | 41.276621
7 | 308000 | 4574400 | −71.293243 | 41.298222

Rhode Island Call Area—Southeast Section Boundary (Table 2)
Point No. | X (Easting) | Y (Northing) | Longitude | Latitude
1 | 321200 | 4572000 | −71.134986 | 41.279651
2 | 322400 | 4572000 | −71.120667 | 41.279915
3 | 322400 | 4569600 | −71.119968 | 41.258312
4 | 327200 | 4569600 | −71.062707 | 41.259352
5 | 327200 | 4563600 | −71.061010 | 41.205340
6 | 323600 | 4563600 | −71.103920 | 41.204564
7 | 323600 | 4558800 | −71.102537 | 41.161355
8 | 328400 | 4558800 | −71.045360 | 41.162385
9 | 328400 | 4560000 | −71.045696 | 41.173187
10 | 336800 | 4560000 | −70.945614 | 41.174922
11 | 336800 | 4555200 | −70.944336 | 41.131709
12 | 346400 | 4555200 | −70.830021 | 41.133582
13 | 346400 | 4540800 | −70.826429 | 41.003931
14 | 327200 | 4540800 | −71.054600 | 41.000088
15 | 327200 | 4536000 | −71.053259 | 40.956877
16 | 308000 | 4536000 | −71.281235 | 40.952589
17 | 308000 | 4545600 | −71.284217 | 41.039000
18 | 309200 | 4545600 | −71.269952 | 41.039282
19 | 309200 | 4548000 | −71.270695 | 41.060884
20 | 310400 | 4548000 | −71.256424 | 41.061165
21 | 310400 | 4558800 | −71.259756 | 41.158376
22 | 311600 | 4558800 | −71.245465 | 41.158656
23 | 311600 | 4560000 | −71.245834 | 41.169457
24 | 312800 | 4560000 | −71.231539 | 41.169735
25 | 312800 | 4561200 | −71.231906 | 41.180536
26 | 314000 | 4561200 | −71.217609 | 41.180813
27 | 314000 | 4563600 | −71.218339 | 41.202416
28 | 315200 | 4563600 | −71.204037 | 41.202690
29 | 315200 | 4564800 | −71.204400 | 41.213492
30 | 316400 | 4564800 | −71.190096 | 41.213765
31 | 316400 | 4566000 | −71.190456 | 41.224566
32 | 317600 | 4566000 | −71.176149 | 41.224838
33 | 317600 | 4567200 | −71.176508 | 41.235639
34 | 318800 | 4567200 | −71.162198 | 41.235909
35 | 318800 | 4569600 | −71.162911 | 41.257512
36 | 320000 | 4569600 | −71.148597 | 41.257781
37 | 320000 | 4570800 | −71.148951 | 41.268582
38 | 321200 | 4570800 | −71.134634 | 41.268849
39 | 321200 | 4572000 | −71.134986 | 41.279651

Map of the Call Area

A map of the area can be found at the following URL: http://www.boemre.gov/offshore/RenewableEnergy/StateActivities-RhodeIsland.htm.

A large-scale map of the Call Area showing boundaries of the area with numbered blocks is available from BOEMRE at the following address: Bureau of Ocean Energy Management, Regulation and Enforcement, Office of Offshore Alternative Energy Programs, 381 Elden Street, Mail Stop 4090, Herndon, Virginia 20170, Phone: (703) 787-1320.

Development of the Call Area

The Call Area was identified by BOEMRE in consultation with the State of Rhode Island and the Commonwealth of Massachusetts, and further delineated through consultation with the BOEMRE/Rhode Island Renewable Energy Task Force and the BOEMRE/Massachusetts Renewable Energy Task Force. Specific mitigation, stipulations, or exclusion areas may be developed as a result of comments and information received in response to this Call, continued coordination with the BOEMRE/Rhode Island Renewable Energy Task Force and the BOEMRE/Massachusetts Renewable Energy Task Force, and the EA for which BOEMRE is concurrently issuing a NOI in the Federal Register, and consultations. Issues discussed through consultation with the BOEMRE/Rhode Island Task Force and the BOEMRE/Massachusetts Renewable Energy Task Force and areas where site-specific stipulations may be required are described below.

Unsolicited Requests

In October and November 2010, BOEMRE received two separate unsolicited requests, pursuant to 30 CFR 285.230, for commercial leases for areas within the AMI that partially overlap geographically. Because the unsolicited lease requests identified areas within the AMI, BOEMRE organized a joint meeting with both the BOEMRE/Rhode Island and BOEMRE/Massachusetts Renewable Energy Task Forces to discuss the proposals on December 10, 2010.

The following whole OCS lease blocks were requested in an unsolicited commercial lease request by Deepwater Wind New England, LLC: In Providence NK19-07, blocks, 6815, 6816, 6817, 6864, 6865, 6866, 6867, 6914, 6915, 6970, 6971, 7014, 7015, 7016, 7017, 7019, 7020, 7021, 7064, 7065, 7066, 7067, 7068, 7069, 7070, 7071, 7114, 7115, 7116, and 7117.

The following whole OCS lease blocks were requested in an unsolicited commercial lease request by Neptune Wind, LLC: In Providence NK19-07, blocks, 6970, 6971, 7018, 7019, 7020, and 7021.

Portions of the following OCS blocks submitted in Deepwater Wind New England, LLC's unsolicited request have not been included within the Call Area: In Providence NK19-07:

Block No. | Sub block
6815 | A,B,C,D,E,F,G,H,I,J,K,L,M,N,O
6816 | A,E
6864 | All sub blocks
6865 | A,B,E,I
6914 | A,B,C,E,F,I,J,M,N
7014 | A,B,E,F,I,M

Should Deepwater Wind New England, LLC wish to modify its proposal, it may do so pursuant to the section of this Call entitled “Required Nomination Information.”

Charted Unexploded Ordnance

BOEMRE is aware of unexploded ordnance, as indicated on the NOAA nautical chart, and has excluded the following OCS lease blocks that overlap:

In Providence NK19-07:

Block No. | Sub block
6867 | F,G,H,J,K,L,N,O,P
6917 | B,C,D
6918 | A

Marine Fisheries and Habitats Within the Call Area

The SAMP has identified portions of the Call Area as important for commercial and recreational fishing activities, as well as important marine fish habitat. Specifically, the area in the vicinity of Cox Ledge is identified in the SAMP as important for a range of commercial fishing activities, including scallop dredging, gillnetting, lobster trapping, bottom trawling and recreational activities. The area also contains complex marine habitats. Specific information on fishery resources, fishing activities and important marine habitats can be found in the Ocean SAMP Fisheries Chapter at: http://www.crmc.ri.gov/samp_ocean.html.

Data suggest that future development in and around Cox Ledge would potentially conflict with fishing activities and marine habitats. The National Marine Fisheries Service (NMFS) has expressed concern regarding impacts to these fishery resources that may result from potential future development. BOEMRE may exclude additional areas from further consideration for potential commercial wind energy leasing based on the information acquired in response to this Call and the results of the environmental review process conducted pursuant to NEPA, as described earlier in this notice.

BOEMRE received several comments, in consultation with the joint BOEMRE Rhode Island and Massachusetts Renewable Energy Task Forces, on the development of this Call on commercial and recreational fishing activities and fish habitat within the Call Area. BOEMRE has included a summary of these comments for consideration by respondents preparing to submit an expression of interest in response to this Call. The following associations forwarded comments for consideration through consultation with the joint Rhode Island and Massachusetts Renewable Energy Task Forces: Atlantic Offshore Lobstermen's Association, Eastern New England Scallop Association, Martha's Vineyard/Dukes County Fishermen's Association, Rhode Island Lobsterman's Association, Rhode Island Party and Charter Boat Association, and Sakonnet Point Fishermen's Association. BOEMRE has aggregated these comments and provided the following summary:

The entire area included in this Call was identified as being important for commercial and recreational fishing and marine habitat for several species, including Atlantic blue fin tuna, black sea bass, cod, dogfish, groundfish species, lobster, monkfish, scup, sea scallops, large pelagic sharks, winter flounder, and yellowtail flounder. The following OCS blocks were requested to be removed from further consideration from the Call area, in Providence NK19-07: 6764, 6815, 6816, 6865, 6866, 6914, 6915, 6916, 6964, 6966, 6967, 6968, 6969, 6970, 6971, 7014, 7015, 7016, 7017, 7018, 7019, 7020, 7021, 7064, 7065, 7066, 7067, 7068, 7069, 7070, and 7071. BOEMRE has identified these areas for consideration by respondents preparing to submit an expression of interest in response to this Call.

Navigational Issues

The U.S. Coast Guard (USCG) has provided the following information for consideration by respondents and other interested parties to this Call. The USCG has a responsibility to ensure the safety of navigation under the Ports and Waterways Safety Act (PWSA). The PWSA requires the USCG to provide safe access routes for the movement of vessel traffic proceeding to or from ports or places subject to the jurisdiction of the United States. This is accomplished through designation of necessary fairways and TSS for vessels operating in the territorial sea of the United States and in high sea approaches, outside the territorial sea. The USCG may also determine that establishment of other ships' routing measures would enhance navigational safety, and it works with its Federal interagency and International Maritime Organization partners to establish these voluntary measures as necessary.

The potential for navigational safety risk posed by building structures in the proximity of shipping is affected by numerous factors, including but not limited to: vessel size, vessel type, density of traffic, prevailing conditions, cumulative impacts of multiple obstructions (for example, wind assessment or development facilities), existence of multiple shipping routes (for example, crossing or meeting situations), radar/automatic radar plotting aid (ARPA) interference, and existence of mitigating factors such as navigational aids, vessel traffic services, or pilotage.

Currently, there is no standard recommended separation distance between offshore renewable energy facilities and shipping routes. The USCG has reviewed guidance published by other countries such as the United Kingdom's Maritime Guidance Note MGN-371 and consulted with its own waterways subject matter experts. Currently, the USCG considers that the placement of offshore wind assessment and generation facilities in any areas less than 1 nmi from traditional shipping routes poses a high risk to navigational safety and therefore does not recommend placement of offshore renewable energy facilities in such areas. The USCG considers placement of such wind facilities in areas greater than 5 nmi from existing shipping routes to pose minimal risk to navigational safety. Areas considered for placement of wind facilities between 1 nmi and 5 nmi would require additional USCG analysis to determine if mitigation factors could be applied to bring navigational safety risk to within acceptable levels. Respondents to this Call should note that impacts to radar and ARPA still occur outside of 1 nmi and will have to be evaluated along with other potential impacts. The above are only planning guidelines and may be changed based on the completion of the Atlantic Coast Port Access Route Study (ACPARS) which is described below. In addition, these guidelines maybe further modified upon completion of a Navigational Safety Risk Assessment (NSRA) that may be required before BOEMRE approves construction of any offshore renewable energy facilities.

The USCG is conducting an ACPARS to determine how best to route traffic on the Atlantic coast. (See Federal Register 76 FR 27288; May 11, 2011). This study will better inform the USCG about the navigational safety risks, if any, associated with construction of offshore renewable energy facilities. The data gathered during this ACPARS may result in the establishment of new vessel routing measures, modification of existing routing measures, or removal of some existing routing measures off the Atlantic Coast from Maine to Florida.

As a member of the BOEMRE Rhode Island and Massachusetts Renewable Energy Task Forces, the USCG conducted an evaluation, using the best available information, of the Rhode Island and Massachusetts Call Area. The USCG recommended OCS blocks (including sub-blocks) that, if developed, may have an unacceptable effect on navigational safety, and other OCS blocks (including sub-blocks) that would require further study to determine the potential effect that the installation of wind facilities in these blocks would have on navigation safety. In evaluating the practical effect of the OCS blocks that are the subject of this Call Area, the USCG applied the criteria described above and also conducted a review of other available information including: existing AIS data and user input; existing traffic patterns; and a literature review of material relevant to historical and current coastwise and international uses in the Call Area. In addition, the USCG considered the opinions and advice of USCG Subject Matter Experts (SMEs) and the ACPARS workgroup concerning waterways management, and the potential for modifications to existing routing measures and the creation of new routing measures in the area.

The USCG has advised BOEMRE that, at this time, all blocks included in the Call may be considered for possible leasing and potential development. However, the USCG advises that all blocks included in the Call require further study and analysis related to existing traffic usage and patterns, as well as projected future traffic increases based on the development of adjacent and adjoining blocks, which will be accomplished during the development of the ACPARS. Such an evaluation will help the USCG determine what, if any, risks exist, and whether USCG should recommend that BOEMRE remove any blocks included in the Call Area from consideration for leasing and potential development at a later stage in the leasing or plan approval process. This process will also allow the USCG to consider potential mitigation measures for blocks that are made available for leasing and potential development.

Department of Defense (DOD) Activities

The DOD conducts offshore testing, training, and operations on the OCS. BOEMRE will consult with the DOD on all areas nominated for leasing to ensure that any future development can be compatible with defense activities on the OCS.

Telecommunications Cable

BOEMRE received a request from Verizon to eliminate OCS blocks 7014, 7064, 7065, 7115, and 6017 from consideration for potential future leasing due to the presence of the CB-1 (formerly Gemini) underwater telecommunications cable. BOEMRE has included this information for consideration by potential respondents to this Call.

BOEMRE Approach to Exclusion Requests

Several task force reviewers of the Rhode Island/Massachusetts Call have recommended areas to be excluded from consideration of potential leasing. As explained in the section of the Call entitled, “Purpose of the Call for Information and Nominations,” the inclusion of an area in the Call is not a decision to lease that area. It is a decision to solicit information from all interested and affected parties that BOEMRE can use in arriving at an ultimate decision on whether to offer the area for lease. The information the Call seeks relates to both renewable energy development interest and to other resources and uses. After considering the information it receives in response to the Call, BOEMRE may decide to exclude certain areas at the next step in the planning process—the Area Identification—or to include those areas for further consideration and analysis in the NEPA review. Please refer to the NOI that is concurrently published with this notice. Generally, BOEMRE's approach is to analyze areas thoroughly with the goal of eliminating or reducing to an acceptable level any potential resource and use conflicts. However, if BOEMRE concludes that such conflicts cannot be properly mitigated, exclusions may be necessary. BOEMRE intends to make fully informed decisions on exclusions at the appropriate time in the lease planning process.

The Rhode Island/Massachusetts Call includes areas in which competing uses have been identified by task force members. BOEMRE has highlighted in the Call two such uses: (1) Vessel traffic and (2) commercial fishing, for which we are requesting specific data and information to inform subsequent decisions. We will consider the information we receive from interested developers, maritime interests, commercial fishers, and others concerning these areas and uses in reaching an Area Identification and in planning the ensuing NEPA analysis. It is possible that certain geographic areas and associated mitigation measures could be framed as alternatives in the NEPA analysis to enable thorough and conclusive consideration by BOEMRE in its decisionmaking.

Required Nomination Information

If you intend to submit a nomination for a commercial wind energy lease within the Call Area to BOEMRE, you must provide the following:

(1) The BOEMRE Protraction name, number, and specific whole or partial OCS blocks or sub-blocks within the Call Area that are of interest for commercial wind leasing, including any required buffer area. This information should be submitted as a spatial file compatible with ArcGIS 9.3 in a geographic coordinate system (NAD 83) in addition to your hard copy submittal. If your proposed lease area includes one or more partial blocks please describe those partial blocks in terms of a sixteenth (i.e., sub-block) of an OCS block. Note that any nomination identifying areas greater than what would be reasonably necessary to develop a commercial wind facility may not be considered as a valid nomination. BOEMRE will not consider any areas outside of the Call Area in this process;

(2) A description of your objectives and the facilities that you would use to achieve those objectives including: A general description of devices and infrastructure you intend to use; anticipated power production and likely purchasers; a statement that the proposed activity conforms with state and local energy planning requirements, initiatives or guidance, as appropriate;

(3) A preliminary schedule of proposed activities, including those leading to commercial operations;

(4) Available and pertinent data and information concerning renewable energy resources and environmental conditions in the area you wish to lease, including energy and resource data and information used to evaluate the Call Area. Where applicable, spatial information should be submitted in a format compatible with ArcGIS 9.3 in a geographic coordinate system (NAD 83);

(5) If available, identification of potential cable landfall sites, staging areas and any other support sites that may be necessary for your project;

(6) If available, information regarding proposed land-side and near-shore project elements and their potential effects on historic and cultural resources;

(7) Description of the compatibility of your project with commercial fishing activity (e.g., spacing between individual turbines, array configurations, cable burial depths, routing measures, inspections, cable configurations or consolidations, etc.) in this area;

(8) Documentation demonstrating that you are legally qualified to hold a lease as set forth in 30 CFR 285.106 and 107. Examples of documentation appropriate for demonstrating your legal qualifications can be found in Chapter 2 and Appendix B of the BOMRE Renewable Energy Framework Guide Book available at http://www.boemre.gov/offshore/RenewableEnergy/PDFs/REnGuidebook_ 03August2009_3_.pdf. Legal qualification documents will be placed in an official file that may be made available for public review. If you wish that any part of your legal qualification documentation be kept confidential, clearly identify what should be kept confidential, and submit it under separate cover (see Protection of Privileged or Confidential Information Section, below).

(9) You must also include documentation demonstrating that you are technically and financially capable of constructing, operating, maintaining and decommissioning the facilities described in (2) above. Guidance regarding documentation appropriate for demonstrating your technical and financial qualifications can be found at: http://www.boemre.gov/offshore/RenewableEnergy/RegulatoryInformation.htm. Documentation you submit to demonstrate your legal, technical, and financial qualifications must be provided to BOEMRE in both paper and electronic formats. BOEMRE considers an Adobe PDF file stored on a compact disc (CD) to be an acceptable format for submitting an electronic copy; and

(10) Information submitted previously in an unsolicited request need not be re-submitted in response to this Call unless the applicant wishes to modify its nomination.

It is critical that you submit a complete nomination so that BOEMRE may evaluate your submission in a timely manner. If BOEMRE reviews your nomination and determines that it is incomplete, BOEMRE will inform you of this determination in writing. This letter will describe the information that BOEMRE determined to be missing from your nomination, and indicate the information that you must submit in order for BOEMRE to deem your submission complete. You will be given 15 business days from the date of the letter to submit the information that BOEMRE found to be missing from your original submission. If you do not meet this deadline, or if BOEMRE determines this second submission to be insufficient, then BOEMRE may deem your nomination invalid. In such a case, BOEMRE would not move forward with your nomination submitted in response to this Call.

Requested Information From Interested or Affected Parties

BOEMRE is requesting from the public and other interested or affected parties specific and detailed comments regarding the following conditions in the area identified:

(1) Geological and geophysical conditions (including bottom and shallow hazards);

(2) Known archaeological and/or cultural resource sites on the seabed or nearshore and methodologies used to acquire that data;

(3) Historic properties potentially affected by the construction of meteorological towers, the installation of meteorological buoys, or commercial wind development in the area identified in this Call;

(4) Multiple uses of the area, including navigation (in particular, commercial and recreational vessel use), recreation, and fisheries (commercial and recreational); and

(5) Other relevant socioeconomic, biological, and environmental information.

Protection of Privileged or Confidential Information

Freedom of Information Act

BOEMRE will protect privileged or confidential information that you submit as required by the Freedom of Information Act (FOIA). Exemption 4 of FOIA applies to trade secrets and commercial or financial information that you submit that is privileged or confidential. If you wish to protect the confidentiality of such information, clearly mark it and request that BOEMRE treat it as confidential. BOEMRE will not disclose such information, subject to the requirements of FOIA. Please label privileged or confidential information “Contains Confidential Information” and consider submitting such information as a separate attachment.

However, BOEMRE will not treat as confidential any aggregate summaries of such information or comments not containing such information. Additionally, BOEMRE will not treat as confidential (1) the legal title of the nominating entity (for example, the name of your company), or (2) the list of whole or partial blocks that you are nominating. Information that is not labeled as privileged or confidential will be regarded by BOEMRE as suitable for public release.

Section 304 of the National Historic Preservation Act (16 U.S.C. 470w-3(a))

BOEMRE is required, after consultation with the Secretary, to withhold the location, character, or ownership of historic resources if it determines that disclosure may, among other things, risk harm to the historic resources or impede the use of a traditional religious site by practitioners. Tribal entities should designate information that falls under Section 304 of NHPA as “Confidential”.

Dated: August 1, 2011.
Michael R. Bromwich,
Director, Bureau of Ocean Energy Management, Regulation and Enforcement.

[FR Doc. 2011-21136 Filed 8-17-11; 8:45 am]

BILLING CODE 4310-MR-P